DEPARTMENT OF HEALTH AND HUMAN SERVICES

Administration for Children and Families

Proposed Information Collection Activity; Comment Request

Proposed Projects

Title: Revised Form OCSE-100, State Plan for Child Support Under Title IV-D of the Social Security Act.

OMB No.: 0970-0017.

Description: The state plan preprint and amendments serve as a contract with OCSE in outlining the activities the state will perform as requried by law in order for states to receive federal funds. We are asking for approval to revise one state plan preprint page to reflect new Federal requirements regarding medical support enforcement..

Respondents: 54.

Annual Burden Estimates
Instrument | Number of respondents | Number of responses per respondent | Average burden hours per response | Total burden hours
OCSE-100 | 54 | 1 | .72 | 39
Estimated Total Annual Burden Hours |  |  |  | 39

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promanade, SW., Washington, DC 20447, Attn: ACF Reports Clearance Officer. All requests should be identified by the title information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: September 26, 2002.
Robert Sargis,
Reports Clearance Officer.

[FR Doc. 02-25002 Filed 10-1-02; 8:45 am]

BILLING CODE 4184-01-M